DEPARTMENT OF THE TREASURY

Alcohol and Tobacco Tax and Trade Bureau

27 CFR Parts 4, 5, 7, 14, and 19

[Docket No. TTB-2018-0007; Notice No. 176A; Re: Notice No. 176]

RIN 1513-AB54

Modernization of the Labeling and Advertising Regulations for Wine, Distilled Spirits, and Malt Beverages; Comment Period Extension

AGENCY: Alcohol and Tobacco Tax and Trade Bureau, Treasury.

ACTION: Notice of proposed rulemaking; extension of comment period.

SUMMARY: The Alcohol and Tobacco Tax and Trade Bureau (TTB) is extending for an additional 90 days the comment period for the notice of proposed rulemaking published November 26, 2018, entitled, Modernization of the Labeling and Advertising Regulations for Wine, Distilled Spirits, and Malt Beverages. TTB is taking this action in response to requests made by several alcohol beverage industry associations.

DATES: For Notice No. 176, a proposed rule published on November 26, 2018 (83 FR 60562), comments are now due on or before June 26, 2019.

ADDRESSES: Please send your comments on Notice No. 176 to one of the following addresses:

• Internet: https://www.regulations.gov (via the online comment form for Notice No. 176 as posted within Docket No. TTB-2018-0007 at “Regulations.gov,” the Federal e-rulemaking portal);

• U.S. mail: Director, Regulations and Rulings Division, Alcohol and Tobacco Tax and Trade Bureau, 1310 G Street NW, Box 12, Washington, DC 20005; or

• Hand delivery/courier in lieu of mail: Alcohol and Tobacco Tax and Trade Bureau, 1310 G Street NW, Suite 400, Washington, DC 20005.

See the Public Participation section of Notice No. 176 for specific instructions and requirements for submitting comments and for information on how to request a public hearing.

You may view copies of Notice No. 176, this document, selected supporting materials, and all public comments associated with Notice No. 176 within Docket No. TTB-2018-0007 on the Regulations.gov website at https://www.regulations.gov. You also may view copies of those materials by appointment at the TTB Public Reading Room, 1310 G Street NW, Washington, DC 20005. Please call 202-453-1039, ext. 135 to make an appointment.

FOR FURTHER INFORMATION CONTACT: Christopher M. Thiemann or Kara T. Fontaine, Regulations and Rulings Division, Alcohol and Tobacco Tax and Trade Bureau, 1310 G Street NW, Box 12, Washington, DC 20005; telephone 202-453-2265.

SUPPLEMENTARY INFORMATION: On November 26, 2018, the Alcohol and Tobacco Tax and Trade Bureau (TTB) published in the Federal Register (83 FR 60562) a notice of proposed rulemaking, Notice No. 176, Modernization of the Labeling and Advertising Regulations for Wine, Distilled Spirits, and Malt Beverages. In that document, TTB proposes to reorganize and recodify its regulations governing the labeling and advertising of wine, distilled spirits, and malt beverages in order to simplify and clarify regulatory standards, incorporate guidance documents and current policy into the regulations, and reduce the regulatory burden on industry members where possible. As originally published, the public comment period for Notice No. 176 was to close on March 26, 2019.

In response to Notice No. 176, as of February 26, 2019, TTB has received eight requests from industry trade associations to extend the comment period for that document. Comments from the Wine Institute (comment 24), the American Distilled Spirits Association (comment 27), the National Association of Manufacturers (comment 56), the Brewers Association (comment 57), the Distilled Spirits Council (comment 58), the Napa Valley Vintners (comment 64), and Wine America (comment 75) request 90-day extensions of the comment period. The comment from the United States Association of Cider Makers (USACM; comment 47) requests a 60-day extension of the comment period.

As reasons to extend the comment period, those requests cite such things as the proposed rule's complex and technical nature, its length, and its publication during the holiday season. These requests are posted within Docket No. TTB-2018-0007 on the Regulations.gov website at https://www.regulations.gov.

In response to these requests, TTB is extending the comment period for Notice No. 176 for an additional 90 days. TTB will now accept public comments on Notice No. 176 through June 26, 2019.

Signed: March 14, 2019.
John J. Manfreda,
Administrator.

[FR Doc. 2019-05148 Filed 3-18-19; 8:45 am]

BILLING CODE 4810-31-P